DEPARTMENT OF COMMERCE

Foreign-Trade Zones Board

[Docket 30-2003]

Foreign-Trade Zone 82—Mobile, AL Application for Manufacturing Authority Kvaerner Oilfield Products (Undersea Umbilicals) Mobile, AL

An application has been submitted to the Foreign-Trade Zones Board (the Board) by the City of Mobile, grantee of FTZ 82, requesting manufacturing authority within a proposed general-purpose zone expansion site for the manufacturing and warehousing facilities of Kvaerner Oilfield Products (Kvaerner), located in Mobile, Alabama. The application was submitted pursuant to the provisions of the Foreign-Trade Zones Act, as amended (19 U.S.C. 81a-81u), and the regulations of the Board (15 CFR part 400). It was formally filed on June 18, 2003.

The Kvaerner facility (50 employees) is located within proposed Site 7 of FTZ 82, the Theodore Industrial Complex, located on the western shore of Mobile Bay. The facility will be used for the manufacturing and warehousing of undersea umbilicals (HTS 8544.60, duty rate 3.5%). Components and materials sourced from abroad (representing 25-35% of all parts consumed in manufacturing) include: super duplex steel tubes, power and signal cables, fiber optic cables and plastic conduits (HTS 7304.10, 7304.21-7304.59, 8544.11-8544.20 and 9001.10, duty rate ranges from .3% to 6.7 %).

FTZ procedures would exempt Kvaerner from Customs duty payments on the foreign components used in export production. The company anticipates that some 50 percent of the plant's shipments will be exported. On its domestic sales, Kvaerner would be able to choose the duty rates during Customs entry procedures that apply to finished umbilicals (3.5%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building-Suite 4100W, 1099 14th St. NW., Washington, DC 20005; or

2. Submissions via the U.S. Postal Service: Foreign-Trade-Zones Board, U.S. Department of Commerce, FCB-Suite 4100W, 1401 Constitution Ave. NW., Washington, DC 20230.

The closing period for their receipt is August 25, 2003. Rebuttal comments in response to material submitted during the foregoing period may be submitted during the subsequent 15-day period (to September 9, 2003).

A copy of the application and accompanying exhibits will be available for public inspection at the Office of the Foreign-Trade Zones Board's Executive Secretary at the first address listed above, and at the Office of the City Clerk, City of Mobile, 9th Floor, South Tower, Government Plaza, 205 Government Street, Mobile, AL 36602.

Dated: June 18, 2003.
Dennis Puccinelli,
Executive Secretary.

[FR Doc. 03-16221 Filed 6-25-03; 8:45 am]

BILLING CODE 3510-DS-P